DEPARTMENT OF COMMERCE

Submission for OMB Review; Comment Request

The Department of Commerce (DOC) has submitted to the Office of Management and Budget (OMB) for clearance the following proposal for collection of information under the provisions of the Paperwork Reduction Act (44 U.S.C. Chapter 35).

Agency: Patent and Trademark Office (PTO).

Title: Practitioner Records Maintenance and Disclosure Before the Patent and Trademark Office.

Form Number(s): None.

OMB Approval Number: 0651-0017.

Type of Request: Extension of a currently approved collection.

Burden Hours: 2,270.

Number of Respondents: 230 for record keeping maintenance, and 100 for violation reporting.

Average Hours Per Response: Based on PTO time and motion studies, the agency estimates the burden hours required by practitioners to maintain client files to be 9 hours annually. The burden hours required to gather, prepare and submit a response to one violation report is estimated to be 2 hours.

Need and Uses: The information in this collection is necessary for the Patent and Trademark Office (PTO) to comply with Federal regulations 35 U.S.C. 6(a) and 35 U.S.C. 31. The Office of Enrollment and Discipline (OED) collects this information to insure compliance with the PTO Code of Professional Responsibility, 37 CFR 10.20-10.112. This Code requires that registered practitioners maintain complete records of clients, including all funds, securities, and other properties of clients coming into his/her possession, and render appropriate accounts to the client regarding such records, as well as report violations of the Code to the PTO. The registered practitioners are mandated by the Code to maintain proper documentation so they can fully cooperate with an investigation in the event of a report of an alleged violation and that violations are prosecuted as appropriate.

Affected Public: Individuals or households, businesses or other for-profit organizations, Federal Government, and State, Local or Tribal Government.

Frequency: On occasion.

Respondent's Obligation: Mandatory.

OMB Desk Officer: Peter Weiss, (202) 395-3630.

Copies of the above information collection proposal can be obtained by calling or writing Linda Engelmeier, Departmental Forms Clearance Officer, Office of the Chief Information Officer, (202) 482-3272, Department of Commerce, room 5027, 14th and Constitution Avenue, NW, Washington, DC 20230 (or via the Internet at LEngelme@doc.gov).

Written comments and recommendations for the proposed information collection should be sent within 30 days of publication to Peter Weiss, OMB Desk Officer, Room 10236, New Executive Office building, 725 17th Street, NW, Washington, DC 20503.

Dated: March 13, 2000.
Madeleine Clayton,
Management Analyst, Office of the Chief Information Officer.

[FR Doc. 00-6494 Filed 3-15-00; 8:45 am]

BILLING CODE 3510-16-P